DEPARTMENT OF TRANSPORTATION

Federal Highway Administration

Environmental Impact Statement: Bellevue, King County, WA

AGENCY: Federal Highway Administration (FHWA), DOT.

ACTION: Cancellation of notice of intent [FR document 97-13308; Filed 5-20-97].

SUMMARY: The FHWA is issuing this notice to rescind the previous Notice of Intent issued on May 9, 1997 [appeared in the Federal Register on May 21, 1997], to prepare an environmental impact statement (EIS) for the proposed highway project in Bellevue, King, County, Washington.

FOR FURTHER INFORMATION CONTACT: Dan Mathis, Federal Highway Administration, Evergreen Plaza Building, Suite 501, 711 South Capitol Way, Olympia, Washington, 98501-1284, Telephone: (360) 753-9413; John Okamoto, WSDOT Northwest Region Administrator, 15700 Dayton Avenue North, P.O. Box 330310, Seattle, Washington, 98133-9710, Telephone: (206) 440-4691 or Len Pavelka, City of Bellevue Senior Transportation Planner, PO Box 90012, Bellevue, Washington 98009-9012, Telephone: (425) 452-2035.

SUPPLEMENTARY INFORMATION: The FHWA, with the co-lead agencies of the Washington State Department of Transportation (WSDOT) and the city of Bellevue, issued a Notice of Intent on May 9, 1997 to prepared an EIS on a proposal to provide additional eastbound and westbound access to SR 520 between Interstate 405 and 148th Avenue NE in Bellevue, Washington.

Following the alternative screening process, the Bellevue City Council acted on October 23, 2000, upon a recommendation by the project Interdisciplinary team and confirmed the selection of the “No Action” alternative as the preferred alternative for this project. Further work on the EIS was terminated.

The decision was based on three primary factors: (1) Controversial input from the adjacent community, (2) a review of the technical analysis summarized in the Transportation Technical Report which revealed a very low benefit to cost relationship, and (3) the analysis showed that the interchange alternatives at 124th Avenue NE and 130th Avenue NE would have a negligible affect on reducing congestion to meet the project purpose.

Estimated costs for the build alternatives ranged from $35 million to $80 million. These latest cost estimates were substantially higher than previous estimates and exceeded available funds to construct any type of added access improvement to/from SR 520.

In further response to the Council action, the City removed the project from its short-range (6 year) Capital Investment Program. The City is also removing the project from its mid-range (12 year) transportations programming document, the Transportation Facilities Plan.

Authority: Catalog of Federal Domestic Assistance Program Number 20.205, Highway Research, Planning and Construction. The regulations implementing Executive Order 12372 regarding intergovernmental consultation of federal programs and activities apply to this program.

Issued on: June 4, 2001.
Jim Leonard,
Transportation and Environmental Engineer, Olympia, Washington, for the division Administrator.

[FR Doc. 01-14829 Filed 6-12-01; 8:45 am]

BILLING CODE 4910-22-M